DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before July 21, 2023.

ADDRESSES: You may submit comments identified by Docket No. MSHA-2023-0031 by any of the following methods:

1. Federal eRulemaking Portal: https://www.regulations.gov. Follow the instructions for submitting comments for MSHA-2023-0031.

2. Fax: 202-693-9441.

3. Email: petitioncomments@dol.gov.

4. Regular Mail or Hand Delivery: MSHA, Office of Standards, Regulations, and Variances, 201 12th Street South, Suite 4E401, Arlington, Virginia 22202-5452, Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2023-017-C.

Petitioner: Peter Shingara Jr. Mining, 315 Shingara Lane, Sunbury, Pennsylvania 17801.

Mine: No. 1 Slope Operation, MSHA ID No. 36-10008, located in Northumberland County, Pennsylvania.

Regulation Affected: 30 CFR 75.1200, Mine map.

Modification Request: The petitioner requests a modification of 30 CFR 75.1200—specifically clauses (d) and (i). The petitioner requests that the substitution of cross-sections be permitted, in lieu of contour lines through the intake slope, at locations of rock tunnel connections between coal veins, and at 1,000 feet intervals of advance from the intake slope. The petitioner also requests for limiting the required mappings of mine workings above and below to those present within 100 feet of the vein(s) being mined unless these veins are interconnected to other veins beyond the 100 feet limit, through rock tunnels.

The petitioner states that:

(a) Due to steep pitch encountered in mining anthracite coal veins, contour lines of elevations provide no useful information, and their depiction would make portions of the map illegible.

(b) Mining activities at the mine are either second mining of remnant pillars from previous mining or the mining of coal veins of lower quality in proximity to inaccessible and frequently flooded abandoned mine workings which may or may not be mapped.

(c) The mine workings above and below are usually inactive and abandoned and not subject to change during the life of the mine.

The petitioner proposes the following alternative method:

(a) Cross-sections shall be used in lieu of contour lines on mine maps to provide critical information relative to the spacing between veins and proximity to other mine workings which fluctuate considerably.

(b) All mapping for mines above and below shall be researched by a contract engineer for the presence of interconnecting rock tunnels between coal veins in relation to the mine and a hazard analysis done when mapping indicates the presence of known or potentially flooded workings.

(c) Mine workings found beyond 100 feet from the mine, when no rock tunnel connections are found, shall be recognized as presenting no hazard to the mine due to the pitch of the vein and rock separation.

(d) Where evidence indicates prior mining was conducted on a coal vein above or below the mine and there is no available mine map, the vein shall be considered to be mined and flooded, and appropriate precautions shall be taken, as required by 30 CFR 75.388.

(e) Where potential hazards exist and in-mine drilling capabilities limit penetration, surface boreholes shall be used to intercept the workings and the results analyzed prior to the beginning of mining in the affected area.

The petitioner asserts that the alternate method proposed will at all times guarantee no less than the same measure of protection afforded the miners under the mandatory standard.

Song-ae Aromie Noe,
Director, Office of Standards, Regulations, and Variances.

[FR Doc. 2023-13176 Filed 6-20-23; 8:45 am]

BILLING CODE 4520-43-P